DEPARTMENT OF DEFENSE

Department of the Army; Corps of Engineers

Intent to Prepare a Draft Supplemental Environmental Impact Statement for Boston Harbor Inner Harbor Maintenance Dredging Project

Correction

In notice document 05-9316 appearing on page 24556 in the issue of Tuesday, May 10, 2005, make the following corrections:

1. On page 24556, in the second column, under the heading SUMMARY, in the 6th line, “grounding” should read “groundings”.

2. On the same page, in the same column, under the same heading, in the 14th line, “depending” should read “deepening”.

[FR Doc. C5-9316 Filed 5-16-05; 8:45 am]

BILLING CODE 1505-01-D